DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Generic Clearance for Usability Data Collections.

Form Number(s): None.

OMB Approval Number: 0693-0043.

Type of Review: Regular Submission.

Burden Hours: 1,000.

Number of Respondents: 2,000.

Average Hours per Response: 30 minutes.

Needs and Uses: NIST will conduct information collections of usability data involving usage of technological devices (such as Web sites, handheld computers, cell phones, and robots). This information will enable NIST researchers to study human-computer interactions and help establish guidelines and standards for more effective and efficient interactions.

Affected Public: Individuals or households; State, local, or tribal government; Federal government.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, Fax number (202) 395-5167 or via the Internet at Jasmeet_K._Seehra@omb.eop.gov.

Dated: June 28, 2006.
Gwellnar Banks,
Management Analyst, Office of the Chief Information Officer.

[FR Doc. E6-10499 Filed 7-5-06; 8:45 am]

BILLING CODE 3510-13-P